DEPARTMENT OF DEFENSE

Department of the Navy

[No. USN-2013-0011]

RIN 0703-AA92

32 CFR Part 776

Professional Conduct of Attorneys Practicing Under the Cognizance and Supervision of the Judge Advocate General; Correction

AGENCY: Department of the Navy, DoD.

ACTION: Final rule; correction.

SUMMARY: On November 4, 2015, the Department of the Navy (DoN) published a final rule to comport with current policy as stated in JAG Instruction 5803.1 (Series) governing the professional conduct of attorneys practicing under the cognizance and supervision of the Judge Advocate General. The content of one of its CFRs is better codified as an appendix, and this correction amends the CFR accordingly.

DATES: This correction is effective December 4, 2015.

FOR FURTHER INFORMATION CONTACT: Commander Noreen A. Hagerty-Ford, JAGC, U.S. Navy, Office of the Judge Advocate General (Administrative Law), Department of the Navy, 1322 Patterson Ave. SE., Suite 3000, Washington Navy Yard, DC 20374-5066, telephone: 703-614-7408.

SUPPLEMENTARY INFORMATION: The DoN published a rule at 80 FR 68388 on November 4, 2015, to revise 32 CFR part 776, to comport with current policy as stated in JAG Instruction 5803.1 (Series) governing the professional conduct of attorneys practicing under the cognizance and supervision of the Judge Advocate General. The content of § 776.94 is more appropriate as an appendix, and this correction amends the CFR accordingly, redesignating § 776.94 as an appendix to subpart D. In addition, because § 776.94 becomes an appendix to its subpart, DoN is redesignating § 776.95 in the November 4 rule as § 776.94.

Correction

In FR Rule Doc. 2015-26982 appearing on page 68388 in the Federal Register of Wednesday, November 4, 2015, the following corrections are made:

1. On page 68390, in the first column, third line, revise “776.94 Outside Law Practice Questionnaire and Request.” to read “Appendix to Subpart D of Part 776—Outside Law Practice Questionnaire and Request.” and in the seventh line, revise “776.95 Relations with Non-USG Counsel.” to read “776.94 Relations with Non-USG Counsel.”;

2. On page 68408, in the third column, second line, revise “§ 776.94 of this part” to read “appendix to subpart D of part 776”;

3. On page 68408, in the third column, revise the section heading “§ 776.94 Outside Law Practice Questionnaire and Request.” to read “Appendix to Subpart D of Part 776—Outside Law Practice Questionnaire and Request.”; and

4. On page 68409, in the second column under the Subpart E heading, revise “§ 776.95 Relations with Non-USG Counsel.” to read “§ 776.94 Relations with Non-USG Counsel.”.

Dated: November 20, 2015.
N.A. Hagerty-Ford,
Commander,Office of the Judge Advocate General,U.S. Navy, Federal Register Liaison Officer.

[FR Doc. 2015-30190 Filed 11-25-15; 8:45 am]

BILLING CODE 3810-FF-P